NUCLEAR REGULATORY COMMISSION

Sunshine Act Meeting

Date: Weeks of July 1, 8, 15, 22, 29, and August 5, 2002.

Place: Commissioners' Conference Room, 11555 Rockville Pike, Rockville, Maryland.

Status: Public and Closed.

Matters to be Considered: Week of July 1, 2002

Monday, July 1, 2002

2:00 p.m. Discussion of International Safeguards Issues (Closed—Ex. 9)

Week of July 8, 2002—Tentative

Wednesday, July 10, 2002

9:25 a.m. Affirmation Session (Public Meeting) (If needed)

9:30 a.m. Briefing on License Renewal Program and Power Uprate Review Activities (Public Meeting) (Contacts: Noel Dudley, 301-415-1154, for license renewal program; Mohammed Shuaibi, 301-415-2859, for power uprate review activities)

This meeting will be webcast live at the Web address—

http://www.nrc.gov

2:00 p.m. Meeting with Advisory Committee on Reactor Safeguards (ACRS) (Public Meeting) (Contact: John Larkins, 301-415-7360)

This meeting will be webcast live at the Web address-

http://www.nrc.gov

Week of July 15, 2002—Tentative

Thursday, July 18, 2002

1:55 p.m. Affirmation Session (Public Meeting) (If needed)

Week of July 22, 2002—Tentative

Week of July 29, 2002—Tentative

Week of August 5, 2002—Tentative

There are no meetings scheduled for the Week of August 5, 2002.

*The schedule for Commission meetings is subject to change on short notice. To verify the status of meetings call (recording)—(301) 415-1292. Contact person for more information: David Louis Gamberoni (301) 415-1651.

* * * * *

Additional Information

By a vote of 5-0 on June 20 and 21, the Commission determined pursuant to U.S.C. 552b(e) and § 9.107(a) of the Commission's rules that “Affirmation of Pacific Gas and Electric Co. (Diablo Canyon Power Plant, Units 1 and 2) Multiple Petitions to Intervene” be held on June 25, and on less than one week's notice to the public.

* * * * *

The NRC Commission Meeting Schedule can be found on the Internet at:

http://www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 27, 2002.
Sandra M. Joosten,
Executive Assistant, Office of the Secretary.

[FR Doc. 02-16626 Filed 6-27-02; 12:45 pm]

BILLING CODE 7590-01-M